DEPARTMENT OF HEALTH AND HUMAN SERVICES

National Institutes of Health

Center for Scientific Review; Amended Notice of Meeting

Notice is hereby given of a change in the meeting of the Cognition and Perception Study Section, October 10, 2013, 8:00 a.m. to October 11, 2013, 5:00 p.m., Churchill Hotel, 1914 Connecticut Avenue NW., Washington, DC 20009 which was published in the Federal Register on September 11, 2013, 78 FR 176 Pgs. 55752-55753.

The meeting will be held at the Renaissance Washington, 999 Ninth St. NW., Washington, DC 20001. The meeting will start on December 5, 2013 at 8:30 a.m. and will end on December 6, 2013 at 5:00 p.m. The meeting is closed to the public.

Dated: October 24, 2013.
Carolyn A. Baum,
Program Analyst, Office of Federal Advisory Committee Policy.

[FR Doc. 2013-25649 Filed 10-29-13; 8:45 am]

BILLING CODE 4140-01-P